FEDERAL ENERGY REGULATORY COMMISSION

Sunshine Act Meeting Notice

June 11, 2009.

The following notice of meeting is published pursuant to section 3(a) of the government in the Sunshine Act (Pub. L. 94-409), 5 U.S.C. 552b:

Agency Holding Meeting: Federal Energy Regulatory Commission.

Date and Time: June 18, 2009, 10 a.m.

Place: Room 2C, 888 First Street, NE., Washington, DC 20426.

Status: Open.

Matters to be Considered: Agenda.

Note: Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

949th—Meeting

Regular Meeting
[June 18, 2009, 10 a.m.]
Item No. | Docket No. | Company
ADMINISTRATIVE
A-1 | AD02-1-000 | Agency Administrative Matters.
A-2 | AD02-7-000 | Customer Matters, Reliability, Security and Market Operations.
ELECTRIC
E-1 | OMITTED |
E-2 | RM04-7-006 | Market-Based Rates for Wholesale Sales of Electric Energy, Capacity, and Ancillary Services by Public Utilities.
E-3 | ER09-1039-000 | Southwest Power Pool, Inc.
E-4 | RM09-8-000 | Revised Mandatory Reliability Standards for Interchange Scheduling and Coordination.
E-5 | RM06-22-006 | Mandatory Reliability Standards for Critical Infrastructure Protection.
E-6 | ER09-1004-000 | Southwest Power Pool, Inc.
| ER09-1004-001 |
E-7 | OA09-15-000 | Golden Spread Electric Cooperative, Inc.
E-8 | OA08-46-002 | South Carolina Electric & Gas Company. |  | OA07-36-003 |
E-9 | OA08-27-001 | E.ON U.S. LLC.
E-10 | OA08-20-001 | Tampa Electric Company.
| OA08-20-002 |
| OA08-22-002 | Florida Power Corporation.
| OA08-29-001 | Florida Power & Light Company.
| NJ08-6-001 | Orlando Utilities Commission.
E-11 | OA08-36-003 | Cleco Power LLC.
E-12 | NJ08-4-001 | East Kentucky Power Cooperative, Inc.
E-13 | OA08-59-003 | Entergy Services, Inc.
| OA08-59-004 |
E-14 | EL09-29-000 | NorthWestern Corporation.
E-15 | OMITTED |
E-16 | EL09-30-000 | Mountain States Transmission Intertie, LLC and NorthWestern Corporation.
E-17 | EL09-42-000 | Dartmouth Power Associates Limited Partnership v. ISO New England Inc.
E-18 | OA08-50-000 | Duke Energy Carolinas, LLC.
| OA08-50-001 |
| OA08-51-000 | Progress Energy Carolinas, Inc.
| OA08-51-002 |
E-19 | EL00-95-000 | San Diego Gas & Electric Company v. Sellers of Energy and Ancillary Services Into Markets Operated by the California Independent System Operator Corporation and California Power Exchange Corporation.
| EL00-95-224 |
| EL00-98-000 | Investigation of Practices of the California.
| EL00-98-209 | Independent System Operator Corporation and the California Power Exchange Corporation.
E-20 | EL00-95-182 | San Diego Gas & Electric Company v. Sellers of Energy and Ancillary Services Into Markets Operated by the California Independent System Operator Corporation and the California Power Exchange Corporation. |  | EL00-98-168 | Investigation of Practices of the California Independent System Operator Corporation and the California Power Exchange Corporation.
E-21 | EL00-95-172 | San Diego Gas & Electric Company v. Sellers of Energy and Ancillary Services Into Markets Operated by the California Independent System Operator Corporation and the California Power Exchange Corporation. |  | EL00-95-181 |  |  | EL00-95-190 |  |  | EL00-98-158 | Investigation of Practices of the California Independent System Operator Corporation and the California Power Exchange Corporation. |  | EL00-98-167 |  |  | EL00-98-175 |
E-22 | EL00-95-203 | San Diego Gas & Electric Company v. Sellers of Energy and Ancillary Services Into Markets Operated by the California Independent System Operator Corporation and the California Power Exchange Corporation. |  | EL00-98-188 | Investigation of Practices of the California Independent System Operator Corporation and the California Power Exchange Corporation.
E-23 | ER08-1318-000 | Pacific Gas and Electric Company.
E-24 | ER08-1194-000 | Columbia Energy LLC. |  | ER08-1194-001 |  |  | ER08-1194-002 |
E-25 | ER09-197-001 | ISO New England Inc.
E-26 | EL08-67-001 | Maryland Public Service Commission, Delaware Public Service Commission, Pennsylvania Public Utility Commission, New Jersey Board of Public Utilities, Public Power Association of New Jersey, Maryland Office of the People's Counsel, Office of the People's Counsel of the District of Columbia, Southern Maryland Electric Cooperative, Inc., Blue Ridge Power Agency, Allegheny Electric Cooperative, Inc., Office of the Ohio Consumers' Counsel, New Jersey Department of the Public Advocate, Division of Rate Counsel, Pennsylvania Officer of Consumer Advocate, PJM Industrial Customer Coalition, American Forest and Paper Association, Portland Cement Association, Duquesne Light Company, and United States Department of Defense and other affected Federal Executive Agencies v. PJM Interconnection, L.L.C.
E-27 | OA08-37-001 | Southern Company Services, Inc. |  | OA08-37-002 |
E-28 | OA08-36-002 | Cleco Power LLC.
E-29 | ER08-1419-001 | Southwest Power Pool, Inc. |  | ER08-1419-002 |
E-30 | OMITTED |
E-31 | OMITTED |
GAS
G-1 | OMITTED |
G-2 | RP09-38-002 | Sabine Pipe Line LLC.
G-3 | RP09-441-000 | Transcontinental Gas Pipe Line Company, LLC.
HYDRO
H-1 | P-2030-186 | Portland General Electric Company and the Confederated Tribes of the Warm Springs Reservation of Oregon.
H-2 | P-2545-091 | Avista Corporation.
| P-12606-000 |
H-3 | DI09-4-001 | Borough of High Bridge, New Jersey.
H-4 | OMITTED |
H-5 | OMITTED |
CERTIFICATES
C-1 | OMITTED |
C-2 | CP08-458-000 | UGI LNG, Inc.
C-3 | CP09-59-000 | Dominion Cove Point LNG, LP.
C-4 | CP01-415-019 | East Tennessee Natural Gas, LLC.
C-5 | CP09-22-000 | Atmos Pipeline and Storage, LLC.
C-6 | CP09-66-000 | Northwest Pipeline GP.
| CP09-67-000 | Parachute Pipeline LLC.
C-7 | CP07-39-000 | Columbia Gas Transmission Corporation.
C-8 | CP09-47-000 | Oasis Pipeline LP, and Oasis Pipe Line Company Texas L.P.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-14193 Filed 6-16-09; 8:45 am]

BILLING CODE 6717-01-P